DEPARTMENT OF LABOR

Employment and Training Administration

YouthBuild; Solicitation for Grant Applications (SGA) SGA/DFA-PY 06-08, Amendment 2

AGENCY: Employment and Training Administration (ETA), Labor.

ACTION: Amendment.

SUMMARY: The Employment and Training Administration published a document in the Federal Register of April 26, 2007, announcing the availability of funds and solicitation for grant applications for YouthBuild Grants to provide disadvantaged youth with the education and employment skills for meaningful work and service to their communities. The document is hereby amended.

FOR FURTHER INFORMATION CONTACT: Donna Kelly, Grants Management Specialist, Telephone (202) 693-3934.

Amendment

In the Federal Register of April 26, 2007, in FR Volume 72, Number 80:

1. On page 20878, in the right column, Part III. B. Eligible Enrollees, the intent of the Solicitation was to establish criteria for “eligible enrollees.” After further consideration, the solicitation is now amended to clarify the definition of “school dropout” consistent with the way the term is used in the Workforce Investment Act regulations at 20 CFR 664.310. Accordingly, the solicitation is amended to read: “The term ‘school drop out’ is defined as an individual who is no longer attending any school and who has not received a secondary school diploma or its recognized equivalent. A youth attending an alternative school at the time of registration is not a drop out.”

2. On page 20879, beginning in the right column, under Part III. The Work Site Description, it states, “The application must include all of the following information relating to the planned work site for this project.”

The solicitation is amended to read: “The application must include all of the following information relating to the planned work site for this project in year one. Information on property for use in year two will be requested prior to receipt of 2nd year funding.”

Signed at Washington, DC, this 7th day of June, 2007.
Eric Luetkenhaus,
Grant Officer, Employment & Training Administration.

[FR Doc. E7-11499 Filed 6-13-07; 8:45 am]

BILLING CODE 4510-FT-P